DEPARTMENT OF COMMERCE

International Trade Administration

[A-570-831]

Fresh Garlic From the People's Republic of China

AGENCY: Import Administration, International Trade Administration, Department of Commerce.

EFFECTIVE DATE: January 5, 2005.

SUMMARY: In November 2004, the Department of Commerce received three requests to conduct new shipper reviews of the antidumping duty order on fresh garlic from the People's Republic of China. We have determined that these requests meet the statutory and regulatory requirements for the initiation of a new shipper review.

FOR FURTHER INFORMATION CONTACT: Sochieta Moth or Brian Ledgerwood at (202) 482-0168 and (202) 482-3836, respectively, AD/CVD Operations, Office 8, Import Administration, International Trade Administration, U.S. Department of Commerce, 14th Street and Constitution Avenue, NW., Washington, DC 20230.

SUPPLEMENTARY INFORMATION:

Background

The notice announcing the antidumping duty order on fresh garlic from the People's Republic of China (PRC) was published on November 16, 1994. On November 22, 2004, we received a request for a new shipper review from Zhangqui Quingyuan Vegetable Co., Ltd. (Quingyuan). On November 30, 2004, we received requests for new shipper reviews from Shanghai LJ International Trading Co., Ltd. (Shanghai LJ) and Huaiyang Huamei Foodstuff Co., Ltd. (Huamei).

Qingyuan and Huamei certified that they both grew and exported the subject merchandise on which they based their requests for a new shipper review. Shanghai LJ certified that it exported the subject merchandise on which it based its request for a new shipper review, but that it did not grow the subject merchandise. Specifically, Shanghai LJ certified that Henan Xiancheng Sunny Foodstuff Factory (Sunny Foodstuff) grew the subject merchandise it exported.

Initiation of New Shipper Reviews

Pursuant to 19 CFR 351.214(b)(2)(i), Huamei, Shanghai LJ, and Qingyuan certified that they did not export subject merchandise to the United States during the period of investigation (POI). In addition, pursuant to 19 CFR 351.214(b)(2)(ii)(B), Sunny Foodstuff, the grower of the garlic exported by Shanghai LJ, provided a certification that it did not export the subject merchandise to the United States during the POI.

Pursuant to 19 CFR 351.214(b)(2)(iii)(A), each of the three exporters, Huamei, Shanghai LJ, and Qingyuan, certified that, since the initiation of the investigation, they have never been affiliated with any exporter or producer who exported the subject merchandise to the United States during the POI, including those not individually examined during the investigation. As required by 19 CFR 351.214(b)(2)(iii)(B), each of the above-mentioned companies also certified that their export activities were not controlled by the central government.

In addition to the certifications described above, the companies submitted documentation establishing the following: (1) The date on which they first shipped the subject merchandise for export to the United States and the date on which the subject merchandise was first entered, or withdrawn from warehouse, for consumption; (2) the volume of their first shipment and the volume of subsequent shipments; and (3) the date of their first sale to an unaffiliated customer in the United States.

Pursuant to section 751(a)(2)(B) of the Tariff Act of 1930, as amended (the Act), and 19 CFR 351.214(d)(1), we are initiating three new shipper reviews for shipments of fresh garlic from the PRC:

(1) Grown and exported by Qingyuan,

(2) Grown and exported by Huamei, and

(3) Grown by Sunny Foodstuffs and exported by Shanghai LJ.

The period of review (POR) is November 1, 2003, through October 31, 2004. See 19 CFR 351.214(g)(1)(i)(A). We intend to issue preliminary results of these reviews no later than 180 days from the date of initiation, and final results of these reviews no later than 270 days from the date of initiation. See section 751(a)(2)(B)(iv) of the Act.

Because Qingyuan and Huamei have certified that they both grew and exported the subject merchandise on which they based their request for a new shipper review, we will instruct U.S. Customs and Border Protection (CBP) to allow, at the option of the importer, the posting of a bond or security in lieu of a cash deposit for each entry of the subject merchandise both grown and exported by these companies until the completion of the new shipper reviews. With respect to Shanghai LJ, it has certified that it exported, but did not grow the subject merchandise on which it based its request for a new shipper review. Therefore, until completion of the new shipper reviews, we will instruct CBP to allow, at the option of the importer, the posting of a bond or security in lieu of a cash deposit for entries of subject merchandise grown by Sunny Foodstuffs and exported by Shanghai LJ.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: December 29, 2004.
Barbara E. Tillman,
Acting Deputy Assistant Secretary for Import Administration.

[FR Doc. 05-195 Filed 1-4-05; 8:45 am]

BILLING CODE 3510-DS-P